DEPARTMENT OF COMMERCE

International Trade Administration

[A-401-808]

Purified Carboxymethylcellulose From Sweden: Final Results of Antidumping Duty Administrative Review

AGENCY: Import Administration, International Trade Administration, Department of Commerce.

SUMMARY: On August 6, 2008, the Department of Commerce (Department) published the preliminary results of the administrative review of the antidumping duty order on purified carboxymethylcellulose (CMC) from Sweden. See Purified Carboxymethylcellulose from Sweden: Preliminary Results of Antidumping Duty Administrative Review, 73 FR 45703 (August 6, 2008) (Preliminary Results). The merchandise covered by this order is purified CMC as described in the “Scope of the Order” section of this notice. The period of review (POR) is July 1, 2006, through June 30, 2007. In our Preliminary Results, we invited parties to comment. We received comments from interested parties and, consequently, have made changes to our calculation based on our analysis of the comments received. Therefore, the final results differ from those published in the Department's Preliminary Results. The final weighted-average dumping margin for the reviewed firm is listed below in the section titled “Final Results of the Review.”

DATES: Effective Date: December 11, 2008.

FOR FURTHER INFORMATION CONTACT: Patrick Edwards or Angelica Mendoza, AD/CVD Operations, Office 7, Import Administration, International Trade Administration, U.S. Department of Commerce, 14th Street and Constitution Avenue, NW., Washington, DC 20230; telephone: (202) 482-8029 or (202) 482-3019, respectively.

SUPPLEMENTARY INFORMATION:

Background

On August 6, 2008, the Department published the preliminary results of administrative review of the antidumping duty order covering purified CMC from Sweden. See Preliminary Results. The parties subject to this review are CP Kelco A.B. and its U.S. affiliate, CP Kelco U.S., Inc. (collectively, CP Kelco). The petitioner in this proceeding is The Aqualon Company, a division of Hercules Incorporated (Petitioner).

We invited interested parties to comment on the Preliminary Results. On September 5, 2008, Petitioner filed comments on the Preliminary Results. See Letter from Haynes & Boone, LLP, regarding “Request for a Public Hearing and Comment in Lieu of a Formal Case Brief,” dated September 5, 2008. Also on September 5, 2008, CP Kelco submitted comments on the Preliminary Results. See Letter from Arent Fox LLP, regarding “Comments Regarding August 6, 2008 Preliminary Results of Review,” dated September 5, 2008. On September 11, 2008, CP Kelco filed its rebuttal to Petitioner's September 5, 2008, submission. See Letter from Arent Fox LLP, regarding “Rebuttal Brief of CP Kelco AB,” dated September 11, 2008. Petitioner did not submit a rebuttal brief. On September 11, 2008, Petitioner subsequently contacted Department officials and withdrew its request for a public hearing. See Memorandum to the File from Robert James, Program Manager, titled “Withdrawal of Petitioner's Request for Hearing,” dated September 11, 2008.

Scope of the Order

The merchandise covered by the order is all purified CMC, sometimes also referred to as purified sodium CMC, polyanionic cellulose, or cellulose gum, which is a white to off-white, non-toxic, odorless, biodegradable powder, comprising sodium CMC that has been refined and purified to a minimum assay of 90 percent. Purified CMC does not include unpurified or crude CMC, CMC Fluidized Polymer Suspensions, and CMC that is cross-linked through heat treatment. Purified CMC is CMC that has undergone one or more purification operations which, at a minimum, reduce the remaining salt and other by-product portion of the product to less than ten percent. The merchandise subject to the order is classified in the Harmonized Tariff Schedule of the United States at subheading 3912.31.00. This tariff classification is provided for convenience and customs purposes; however, the written description of the scope of the order is dispositive.

Analysis of Comments Received

All issues raised in the case and rebuttal briefs are addressed in the “Memorandum to the Assistant Secretary: Issues and Decision Memorandum for the Final Results of the Antidumping Duty Administrative Review of Purified Carboxymethylcellulose from Sweden,” dated December 4, 2008 (Issues and Decision Memorandum), which is hereby adopted by this notice. A list of the issues raised, all of which are in the Issues and Decision Memorandum, is attached to this notice as Appendix I. Parties can find a complete discussion of all issues raised in the briefs and the corresponding recommendations in this public memorandum which is on file in the Central Records Unit (CRU), room 1117 of the main Department of Commerce building. In addition, a complete version of the Issues and Decision Memorandum can be accessed directly on the Web at http://www.trade.gov/ia/. The paper copy and electronic version of the Issues and Decision Memorandum are identical in content.

Changes Since the Preliminary Results

Based on the comments received from the interested parties, we have made one change to the margin calculation for CP Kelco, to correct for a clerical error made at the Preliminary Results with regard to certain constructed export price sales that were inadvertently removed from our overall margin calculation. For a discussion of the change which the Department has made to the margin calculation for CP Kelco, see “Memorandum to the File: Antidumping Duty Administrative Review of the Antidumping Duty Order on Purified Carboxymethylcellulose for CP Kelco AB (CP Kelco),” dated December 4, 2008. A public version of this memorandum is on file in the CRU.

Final Results of the Review

We determine the following percentage weighted-average margin exists for the period July 1, 2006, through June 30, 2007:

Manufacturer/exporter | Weighted average margin (percentage)
CP Kelco A.B. | 5.88

Assessment

The Department shall determine, and U.S. Customs and Border Protection (CBP) shall assess, antidumping duties on all appropriate entries. In accordance with 19 CFR 351.212(b)(1), the Department calculates an assessment rate for each importer of the subject merchandise. CP Kelco has reported entered values for all of its sales of subject merchandise to the United States during the POR. Therefore, in accordance with 19 CFR 351.212(b)(1), we have calculated importer-specific duty assessment rates on the basis of the ratio of the total amount of antidumping duties calculated for the examined sales to the total entered value of the examined sales of that importer. These rates will be assessed uniformly on all entries the respective importers made during the POR. Where the assessment rate is above de minimis, we will instruct CBP to assess duties on all entries of subject merchandise by that importer. The Department intends to issue assessment instructions directly to CBP 15 days after publication of these final results of review.

The Department clarified its “automatic assessment” regulation on May 6, 2003. This clarification will apply to entries of subject merchandise during the POR produced by reviewed companies for which these companies did not know their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Requirements

The following deposit requirements will be effective upon publication of this notice of final results of administrative review for all shipments of purified CMC from Sweden entered, or withdrawn from warehouse, for consumption on or after the date of publication, as provided by section 751(a)(1) of the Tariff Act of 1930, as amended (the Act): (1) The cash deposit rate for CP Kelco will be the rate established in the final results of this review; (2) for merchandise exported by manufacturers or exporters not covered in this review but covered in the original less-than-fair-value investigation or previous reviews, the cash-deposit rate will continue to be the company-specific rate published for the most recent period; (3) if the exporter is not a firm covered in this review or the less-than-fair-value (LTFV) investigation, but the manufacturer is, the cash deposit rate will be the rate established for the most recent period for the manufacturer of the merchandise; and (4) if neither the exporter nor the manufacturer is a firm covered in this or any previous review conducted by the Department, the cash deposit rate will be the all-others rate of 25.29 percent from the LTFV investigation. See Notice of Antidumping Duty Orders: Purified Carboxymethylcellulose from Finland, Mexico, the Netherlands and Sweden, 70 FR 39734 (July 11, 2005). These cash deposit requirements shall remain in effect until further notice.

Notification to Importers

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding Administrative Protective Orders

This notice also serves as a reminder to parties subject to administrative protective orders (APO) of their responsibility concerning the return or destruction of proprietary information disclosed under APO in accordance with 19 CFR 351.305(a)(3). Timely written notification of the return or destruction of APO materials or conversion to judicial protective order is hereby requested. Failure to comply with the regulations and terms of an APO is a violation that is subject to sanction.

We are issuing and publishing this notice in accordance with sections 751(a)(1) and 777(i) of the Act.

Dated: December 4, 2008.
David M. Spooner,
Assistant Secretary for Import Administration.

Appendix I—Comments in the Issues and Decision Memorandum

Comment 1: Inclusion of Shut-down Costs in CP Kelco's Cost of Production.

Comment 2: Correction for Ministerial Errors.

[FR Doc. E8-29385 Filed 12-10-08; 8:45 am]

BILLING CODE 3510-DS-P